DEPARTMENT OF TRANSPORTATION

Surface Transportation Board

[STB Finance Docket No. 34726]

Union Pacific Railroad Company—Trackage Rights Exemption—BNSF Railway Company

Pursuant to a written trackage rights agreement dated April 26, 2005, BNSF Railway Company (BNSF) has agreed to grant overhead trackage rights to Union Pacific Railroad Company (UP) over a line of railroad extending from BNSF milepost 345.8 (Tower 55) near Fort Worth, TX, to BNSF milepost 213.2 (South Junction) near Wichita, KS, a distance of approximately 375.10 miles.¹

¹ The trackage rights involve BNSF segments with non-contiguous mileposts. Therefore, total mileage does not correspond to the milepost designations of the endpoints.

The transaction was scheduled to be consummated on July 13, 2005.

The purpose of the trackage rights is to allow UP to use BNSF trackage for overhead movement of UP trains between Tower 55 in Fort Worth, TX, and Wichita, KS.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34726, must be filed with the Surface Transportation Board, 1925 K Street, NW., Washington, DC 20423-0001. In addition, a copy of each pleading must be served on Robert T. Opal, Union Pacific Railroad Company, 1400 Douglas Street, STOP 1580, Omaha, NE 68179.

Board decisions and notices are available on our Web site at http://www.stb.dot.gov.

Decided: July 15, 2005.
By the Board, David M. Konschnik, Director, Office of Proceedings.
Vernon A. Williams,
Secretary.

[FR Doc. 05-14490 Filed 7-21-05; 8:45 am]

BILLING CODE 4915-01-P